ENVIRONMENTAL PROTECTION AGENCY

40 CFR Part 60

[EPA-HQ-OAR-2017-0355; FRL-9970-58-OAR]

RIN 2060-AT55

Repeal of Carbon Pollution Emission Guidelines for Existing Stationary Sources: Electric Utility Generating Units

AGENCY: Environmental Protection Agency (EPA).

ACTION: Proposed rule; notice of public hearing and extension of comment period.

SUMMARY: On October 16, 2017, the Environmental Protection Agency (EPA) published a proposal to announce its intention to repeal the Carbon Pollution Emission Guidelines for Existing Stationary Sources: Electric Utility Generating Units, commonly referred to as the Clean Power Plan (CPP), as promulgated on October 23, 2015. The proposal also requested public comment on the proposed rule. The EPA is announcing that a public hearing will be held. In addition, the EPA is extending the public comment period.

DATES: The public hearing for the proposed rule (82 FR 48035) will be held November 28 and 29, 2017. The deadline for accepting written comments is being extended by 32 days to January 16, 2018.

ADDRESSES: The public hearing will be held on November 28 and 29, 2017, at the West Virginia Capitol Complex, 1900 Kanawha Boulevard East, Charleston, West Virginia 25305. The hearing will convene at 9:00 a.m. (Eastern Standard Time) and will conclude at 5:00 p.m. (Eastern Standard Time). If the EPA receives a high volume of requests, we may continue the public hearing to November 30, 2017, at the Capitol Complex. The EPA may also hold an additional hearing to be announced at a later date. The EPA will make every effort to accommodate all speakers. The EPA's Web site for the rulemaking, which includes the proposal and information about the hearing, can be found at: https://www.epa.gov/stationary-sources-air-pollution/electric-utility-generating-units-repealing-clean-power-plan. Written comments on the proposed rule may be submitted to the EPA electronically, by mail, by facsimile or through hand delivery/courier. Please refer to the proposal (82 FR 48035) for the addresses and detailed instructions.

How To Register: If you would like to present oral testimony at the public hearing, registration will begin on November 8, 2017. The last day to register to present oral testimony will be November 16, 2017. To register to speak at the hearing, please use the online registration form available at: https://www.epa.gov/stationary-sources-air-pollution/electric-utility-generating-units-repealing-clean-power-plan or contact Tanya Johnson at (888) 627-7764; email address: airaction@epa.gov. We request the following information: The time you wish to speak (morning or afternoon), name, affiliation, email address, and telephone number. If you require the service of a translator or accommodation, please let us know at the time of registration. Once registration closes, the EPA will allocate available morning and afternoon pre-registered speaking slots and confirm those via email starting on November 17, 2017. Please note that updates made to any aspect of the hearing will be posted online at: https://www.epa.gov/stationary-sources-air-pollution/electric-utility-generating-units-repealing-clean-power-plan. While the EPA expects the hearing to go forward as set forth above, it asks that you monitor its Web site or contact Tanya Johnson at (888) 627-7764; email address airaction@epa.gov to determine if there are any updates to the information on the hearing. The EPA does not intend to publish a notice in the Federal Register announcing any such updates.

Questions concerning the proposed rule that was published in the Federal Register on October 16, 2017, should be addressed to Mr. Peter Tsirigotis, Office of Air Quality Planning and Standards, Sector Policies and Programs Division (D205-01), Environmental Protection Agency, Research Triangle Park, North Carolina 27711; telephone number: (888) 627-7764; email address: airaction@epa.gov.

SUPPLEMENTARY INFORMATION: The proposal for which the EPA is holding the public hearing was published in the Federal Register on October 16, 2017, and is available at: https://www.epa.gov/stationary-sources-air-pollution/electric-utility-generating-units-repealing-clean-power-plan and also in the docket identified below. The public hearing will provide interested parties the opportunity to present oral comments regarding the EPA's proposed repeal, including data, views, or arguments concerning the proposal. The EPA may ask clarifying questions during the oral presentations, but will not respond to the presentations at that time. Written statements and supporting information submitted during the comment period will be considered with the same weight as any oral comments and supporting information presented at the public hearing. The period for providing written comments to the EPA will remain open until January 16, 2018.

Once the EPA learns how many people have registered to speak at the public hearing, it will allocate speaking times, allowing time for necessary breaks. In addition, a block of time will be reserved for anyone in the audience who wants to give testimony. For planning purposes, each speaker should anticipate speaking for no more than 5 minutes, although we might need to shorten that time if there is a large turnout. The EPA encourages commenters to submit to the docket a copy of their testimony electronically (via email or CD) or in hard copy form.

The public hearing schedule, including lists of speakers, will be posted on the EPA's Web site at: https://www.epa.gov/stationary-sources-air-pollution/electric-utility-generating-units-repealing-clean-power-plan. Verbatim transcripts of the hearing and written statements will be included in the docket for the rulemaking. The EPA will make every effort to follow the schedule as closely as possible on the day of the hearing; however, please plan for the hearing to run either ahead of schedule or behind schedule.

How can I get copies of this document and other related information?

The EPA has established a docket for the proposed rule, “Repeal of Carbon Pollution Emission Guidelines for Existing Stationary Sources: Electric Utility Generating Units” under Docket ID No. EPA-HQ-OAR-2017-0355, available at: http://www.regulations.gov.

Dated: November 2, 2017.
E. Scott Pruitt,
Administrator.

[FR Doc. 2017-24216 Filed 11-7-17; 8:45 am]

BILLING CODE 6560-50-P